DEPARTMENT OF COMMERCE

International Trade Administration

Secretarial Business Development Mission to Russia

AGENCY: International Trade Administration, Department of Commerce.

ACTION: Notice.

SUMMARY: Secretary of Commerce, Donald L. Evans will lead a senior-level business development mission to Moscow, Russia on October 14-16, 2001. The focus of the mission will be to assist U.S. businesses to explore trade and investment opportunities resulting from the positive political and economic changes that have taken place in Russia. The delegation will include approximately 15 U.S. based senior executives of small, medium and large sized U.S. firms representing, but not limited to, the following key growth sectors: aerospace; agribusiness; automotive parts and equipment; energy; engineering; technology and service industries.

DATES: All applications must be submitted by September 5, 2001 by close of business.

ADDRESSES: Office of Business Liaison, Room 5062, U.S. Department of Commerce, Washington, DC 20230, Telephone: (202) 482-1360, Fax: (202) 482-4054.

SUPPLEMENTARY INFORMATION:

Secretarial Business Development Mission to Russia

October 14-16, 2001

Mission Statement

I. Description of the Mission

At the request of President Bush, Secretary of Commerce Donald L. Evans will lead a senior-level business development mission to Moscow, Russia on October 14-16, 2001. The focus of the mission will be to assist U.S. businesses to explore trade and investment opportunities resulting from the positive political and economic changes that have taken place in Russia. The delegation will include approximately 15 U.S. based senior executives of small, medium and large sized U.S. firms representing, but not limited to, the following key growth sectors: aerospace; agribusiness; automotive parts and equipment; energy; engineering; technology and service industries.

The mission will reaffirm U.S. Government support of Russia's economic reforms and free market growth and seek to improve access by U.S. businesses to the Russian market.

II. Commercial Setting for the Mission

The effects of the 1998 financial crisis are continuing to dissipate. Economic and political factors should be increasingly favorable for business in Russia for the near term, if the new Russian administration can make good on its design for reform. Favorable signs include economic growth likely to top 4% this year; annual inflation at 22% in the first half of 2001 (compared to 85% at the end of 1998); a large balance of payments surplus, and real investment up 4.5%, the first increase since 1990. Moreover, on the policy front, President Putin's Administration has declared its intention to improve the business climate and seek more foreign investment, and it has produced an economic strategy document spelling out its plans. The Putin Administration has delivered the first installments on these commitments by recently pushing through a major tax reform and maintaining tight fiscal discipline for the past year.

Nevertheless, a number of factors could limit the prospects for economic growth, including slow progress in restructuring the banking sector, failure to adopt international accounting and business standards, insufficient protection of intellectual property rights, and the lack of enforcement of court judgments and arbitral awards.

On balance, however, the 2001-2002 period could see an improved climate for U.S. business interests in Russia. In the wake of the economic crisis, U.S. exports fell by about half to $2.1 billion in 1999, but recovered moderately in 2000 to $2.3 billion, and continue to show growth in 2001. The pace of U.S. investments recovered from the fall of 1999 to $2.92 billion, 30% above 1998 and nearly equaling 1997. Cumulative foreign direct investment into Russia amounted to $14.5 billion in the beginning of 2001, with the United States accounting for $5.5 billion.

III. Goals for the Mission

The mission aims to further both U.S. commercial policy objectives and advance specific U.S. business interests. The mission will:

• Assess the commercial climate and investment opportunities in Russia

• Advance specific U.S. business interests of the mission members by introducing them to key host government decision-making officials and to potential business partners.

• Assist new-to-market firms to gain a foothold in Russia and increase the visibility of U.S. companies already operating in Russia in this very competitive market.

• Support U.S. Government efforts to eliminate market access problems encountered by U.S. firms in Russia.

• Encourage continued progress in economic reforms in Russia.

• Interface with the private sector led Russian-American Business Dialogue.

IV. Scenario for the Mission

The Business Development Mission will provide participants with exposure to high level contacts and access to the Russian market. American Embassy officials and local U.S. businesses will provide a detailed briefing on the economic, commercial and political climate, and current trade and investment opportunities. Meetings will be arranged with appropriate government ministers and other senior level government officials. In addition, private meetings will be scheduled with potential business partners. Representational events will also be organized to provide mission participants with opportunities to meet Russian business and government representatives as well as U.S. business people living and working in Russia.

Secretary Evans will meet with his trade counterparts and other senior government officials to encourage free market reforms beneficial to the U.S. private sector. The Secretary will also urge host government officials to eliminate market access problems encountered by American firms and to take steps to liberalize Russian trade and investment regimes. Secretary Evans and mission participants will meet with members of the new Russian-American Business Dialogue. Organized by the private sector in both countries, the Dialogue is a vehicle to expand bilateral business opportunities and to introduce new participants into U.S.-Russian trade and investment relations. The Secretary will also meet with resident American business representatives.

The Department of Commerce U.S. Commercial Service will provide logistical support for these activities.

V. Criteria for Participant Selection

The recruitment and selection of private sector participants for this mission will be conducted according to the “Statement of Policy Governing Department of Commerce-Overseas Trade Missions” established in March 1997. Approximately 15 companies will be selected for the mission. Companies will be selected according to the criteria set out below.

Eligibility

Participating companies must be incorporated in the United States. A company is eligible to participate if the products and/or services that it will promote (a) are manufactured or produced in the United States; or (b) if manufactured or produced outside the United States, are marketed under the name of a U.S. firm and have U.S. content representing at least 51 percent of the value of the finished good or service.

Selection Criteria

Companies will be selected for participation in the mission on the basis of:

• Consistency of company's goals with the scope and desired outcome of the mission;

• Relevance of a company's business and product line to the identified growth sectors;

• Senior representative of the designated company;

• Past, present, or prospective international business activity;

• Diversity of company size, type, location, demographics, and traditional under-representation in business.

An applicant's partisan, political activities (including political contributions) are irrelevant to the selection process.

VI. Time Frame for Applications

Applications for the Russia Business Development mission will be made available on or about August 13, 2001. The fee to participate in this mission has not yet been determined, but will be approximately $5,000-$10,000. The fees will not cover travel or lodging expenses, which will be the responsibility of each participant. For additional information on the trade mission or to obtain an application, contact the Office of Business Liaison at 202-482-1360. Applications should be submitted to the Office of Business Liaison by September 5, 2001, in order to ensure sufficient time to obtain in-country appointments for applicants selected to participate in the mission. Applications received after that date will be considered only if space and scheduling constraints permit.

Contact: Office of Business Liaison, Room 5062, U.S. Department of Commerce Washington, D.C. 20230, Telephone: (202) 482-1360, Fax: (202) 482-4054.

Dated:August 10, 2001.
Jerry K. Mitchell,
Deputy Director General, the Commercial Service.

[FR Doc. 01-20542 Filed 8-13-01; 8:45 am]

BILLING CODE 3510-FP-P